DEPARTMENT OF JUSTICE

Notice of Lodging of Proposed Settlement Agreement Under the Comprehensive Environmental Response, Compensation and Liability Act (CERCLA)

Notice is hereby given that on October 31, 2007, a proposed Settlement Agreement regarding the Azurite Mine Site in Whatcom County, Washington was filed with the United States Bankruptcy Court for the Southern District of Texas in In re Asarco LLC, No. 05-21207 (Bankr. S.D. Tex.). The proposed Agreement entered into by the United States on behalf of the Department of Agriculture Forest Service and the Environmental Protection Agency and Asarco LLC provides, inter alia, that the United States shall have an allowed general unsecured claim of $5,000,000 with respect to the Site.

The Department of Justice will receive comments relating to the proposed Agreement for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to In re Asarco LLC, DJ Ref. No. 90-11-3-08633.

The proposed Agreement may be examined at the Office of the United States Attorney for the Southern District of Texas, 800 North Shoreline Blvd, #500, Corpus Christi, TX 78476-2001, at the Office of the Department of Agriculture, Office of the General Counsel, Room 3351, South Building, 1400 Independence Avenue, SW., Washington, DC 20250, and at the Region 10 Office of the United States Environmental Protection Agency, 1200 Sixth Avenue, Seattle, Washington 98101. During the public comment period, the proposed Agreement may also be examined on the following Department of Justice Web site, http://www.usdoj.gov/enrd/Consent_Decrees.html. A copy of the proposed Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.75 (25 cents per page reproduction cost) payable to the U.S. Treasury.

Robert E. Maher, Jr.,
Section Chief, Environmental Enforcement Section, Environment and Natural Resources Division.

[FR Doc. 07-5783 Filed 11-21-07; 8:45 am]

BILLING CODE 4410-15-M